DEPARTMENT OF ENERGY

[Docket Nos. FE C&E 01-52, C&E 01-53, C&E 01-54, C&E 01-55, C&E 01-56, C&E 01-57, and C&E 01-58 Certification Notice—198]

Office of Fossil Energy; Notice of Filings of Coal Capability of GenPower Earley LLC, et al.; Powerplant and Industrial Fuel Use Act

AGENCY: Office of Fossil Energy, Department of Energy.

ACTION: Notice of filing.

SUMMARY: GenPower Earley LLC, Oglethorpe Power Corporation, Columbia Energy LLC, GenPower Anderson LLC, Attala Generating Company, LLC, Harquahala Generating Company, LLC, and CPV Gulfcoast, Ltd. submitted coal capability self-certifications pursuant to section 201 of the Powerplant and Industrial Fuel Use Act of 1978, as amended.

ADDRESSES: Copies of self-certification filings are available for public inspection, upon request, in the Office of Coal & Power Im/Ex, Fossil Energy, Room 4G-039, FE-27, Forrestal Building, 1000 Independence Avenue, SW., Washington, D.C. 20585.

FOR FURTHER INFORMATION CONTACT: Ellen Russell at (202) 586-9624.

SUPPLEMENTARY INFORMATION: Title II of the Powerplant and Industrial Fuel Use Act of 1978 (FUA), as amended (42 U.S.C. 8301 et seq.), provides that no new baseload electric powerplant may be constructed or operated without the capability to use coal or another alternate fuel as a primary energy source. In order to meet the requirement of coal capability, the owner or operator of such facilities proposing to use natural gas or petroleum as its primary energy source shall certify, pursuant to FUA section 201(d), to the Secretary of Energy prior to construction, or prior to operation as a base load powerplant, that such powerplant has the capability to use coal or another alternate fuel. Such certification establishes compliance with section 201(a) as of the date filed with the Department of Energy. The Secretary is required to publish a notice in the Federal Register that a certification has been filed. The following owners/operators of the proposed new baseload powerplants have filed a self-certification in accordance with section 201(d).

Owner: GenPower Earleys, LLC (C&E 01-52).

Operator: General Electric International, Inc.

Location: Hertford County, North Carolina.

Plant Configuration: Combined-cycle.

Capacity: 640 MW.

Fuel: Natural gas.

Purchasing Entities: Wholesale power market.

In-Service Date: October, 2003.

Owner: Oglethorpe Power Corporation (C&E 01-53).

Operator: Oglethorpe Power Corporation.

Location: Franklin, Georgia.

Plant Configuration: Combined-cycle.

Capacity: 520 MW.

Fuel: Natural gas.

Purchasing Entities: Oglethorpe Power Corporation's Electric Membership.

In-Service Date: March 1, 2003.

Owner: Columbia Energy LLC (C&E 01-54).

Operator: Calpine Eastern Inc.

Location: Calhoun County, South Carolina.

Plant Configuration: Combined-cycle.

Capacity: 600 MW.

Fuel: Natural gas.

Purchasing Entities: Wholesale electric market.

In-Service Date: June 1, 2003.

Owner: GenPower Andrson, LLC (C&E 01-55).

Operator: General Electric International, Inc.

Location: Anderson, South Carolina.

Plant Configuration: Combined-cycle.

Capacity: 640 MW.

Fuel: Natural gas.

Purchasing Entities: Wholesale power market.

In-Service Date: December, 2002.

Owner: Attala Generating Company, LLC (C&E 01-56).

Operator: Attala Generating Company, LLC.

Location: Attala County, Mississippi.

Plant Configuration: Combined-cycle.

Capacity: 500 MW.

Fuel: Natural gas.

Purchasing Entities: Wholesale power market.

In-Service Date: 2001.

Owner: Harquahala Generating Company, LLC (C&E 01-57).

Operator: Harquahala Generating Company, LLC.

Location: Maricopah County, Arizona.

Plant Configuration: Combined-cycle.

Capacity: 1050 MW.

Fuel: Natural gas.

Purchasing Entities: Wholesale power market.

In-Service Date: 2003.

Owner: CPV Gulfcoast, Ltd. (C&E 01-58).

Operator: CPV Gulfcoast, Ltd.

Location: Manatee County, Florida.

Plant Configuration: Combined-cycle.

Capacity: 250 MW.

Fuel: Natural gas.

Purchasing Entities: Florida wholesale power market.

In-Service Date: June 2003.

Issued in Washington, DC., April 12, 2001.
Anthony J. Como,
Deputy Director, Electric Power Regulation, Office of Coal & Power Im/Ex, Office of Coal & Power Systems, Office of Fossil Energy.

[FR Doc. 01-9609 Filed 4-17-01; 8:45 am]

BILLING CODE 6450-01-U